INTERNATIONAL TRADE COMMISSION

[Investigation No. 731-TA-1593 (Final)]

Certain Freight Rail Couplers and Parts Thereof From Mexico; Supplemental Schedule for the Final Phase of Antidumping Duty Investigation

AGENCY: United States International Trade Commission.

ACTION: Notice.

DATES: September 21, 2023.

FOR FURTHER INFORMATION CONTACT: Lawrence Jones ((202) 205-3358), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: Effective March 3, 2023, the Commission established a general schedule for the conduct of the final phase of its antidumping duty investigation and countervailing duty investigation on certain freight rail couplers and parts thereof (“FRCs”) from China and Mexico (88 FR 16031, March 15, 2023), following a preliminary determination by the U.S. Department of Commerce (“Commerce”) that imports of FRCs from China were being subsidized by the government of China (88 FR 13425, March 3, 2023), and sold in the United States at less than fair value (“LTFV”) (88 FR 15372, March 13, 2023). Notice of the scheduling of the final phase of the Commission's investigations and of a public hearing held in connection therewith was given by posting copies of the notice in the Office of the Secretary, U.S. International Trade Commission, Washington, DC, and by publishing the notice in the Federal Register on March 15, 2023 (88 FR 16031). The Commission conducted its hearing through in-person on May 18, 2023. All persons who requested the opportunity were permitted to participate.

Commerce issued final affirmative countervailing and antidumping duty determinations with respect to imports of FRCs from China (88 FR 32184, May 19 2023; 88 FR 34485, May 30, 2023). The Commission subsequently issued Its final determination that an industry in the United States was materially injured by reason of imports of FRCs from China, provided for in subheadings 8607.30.10 and 7326.90.86 of the Harmonized Tariff Schedule of the United States, that have been found by Commerce to be sold in the United States at LTFV and subsidized by the government of China (88 FR 43398, June 7, 2023).

Commerce issued a final affirmative antidumping duty determination with respect to imports of FRCs from Mexico (88 FR 65153, September 21, 2023). Accordingly, the Commission currently is issuing a supplemental schedule for its antidumping duty investigation on imports of FRCs from Mexico.

This supplemental schedule is as follows: the deadline for filing supplemental party comments on Commerce's final antidumping duty determination is 5:15 p.m. on October 4, 2023. Supplemental party comments may address only Commerce's final antidumping duty determination regarding imports of FRCs from Mexico. These supplemental final comments may not contain new factual information and may not exceed five (5) pages in length. The supplemental staff report in the final phase of the current investigation will be placed in the nonpublic record on October 16, 2023, and a public version will be issued thereafter.

For further information concerning this proceeding see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigation must be served on all other parties to the investigation (as identified by either the public or BPI service list), and a certificate of service must be timely filed. The Secretary will not accept a document for filing without a certificate of service.

Please note the Secretary's Office will accept only electronic filings during this time. Filings must be made through the Commission's Electronic Document Information System (EDIS, https://edis.usitc.gov.) No in-person paper-based filings or paper copies of any electronic filings will be accepted until further notice.

Authority: This proceeding is being conducted under authority of title VII of the Tariff Act of 1930; this notice is published pursuant to section 207.21 of the Commission's rules.

By order of the Commission.
Issued: September 26, 2023.
Lisa Barton,
Secretary to the Commission.

[FR Doc. 2023-21573 Filed 9-29-23; 8:45 am]

BILLING CODE 7020-02-P